DEPARTMENT OF HOMELAND SECURITY

Coast Guard

33 CFR Part 165

[Docket No. USCG-2011-1126]

Security Zones; Seattle's Seafair Fleet Week Moving Vessels, Puget Sound, WA

AGENCY: Coast Guard, DHS.

ACTION: Notice of enforcement of regulation; correction.

SUMMARY: On July 25, 2014, the Coast Guard published in the Federal Register (79 FR 43257) a notice of enforcement for the Seattle's Seafair Fleet Week Moving Vessels security zones. In the Notice of Enforcement, the Coast Guard identified three participating vessels that are designated as part of the security zone. One of those vessels was the HMCS YELLOWKNIFE (NCSM 706). After the Notice of Enforcement was published, the Coast Guard was informed by the Canadian government that the HMCS EDMONTON (NCSM 703) will be participating in the Seattle Seafair Fleet Week event and not the HMCS YELLOWKNIFE. This document corrects that error.

DATES: The regulations in 33 CFR 165.1333 will be enforced from 12 p.m. on July 29, 2014 through 6 p.m. on August 4, 2014, unless canceled sooner by the Captain of the Port, Puget Sound or his designated representative.

FOR FURTHER INFORMATION CONTACT: If you have questions on this notice, call or email LTJG Johnny Zeng, Sector Puget Sound Waterways Management, Coast Guard; telephone (206) 217-6323, SectorPugetSoundWWM@uscg.mil.

SUPPLEMENTARY INFORMATION:

Background

On July 25, 2014, the Coast Guard published in the Federal Register (79 FR 43257) a notice of enforcement for the Seattle's Seafair Fleet Week Moving Vessels security zones.

Need for Correction

As stated in the Federal Register, the Notice of Enforcement for the Seattle's Seafair Fleet Week Moving Vessels security zones designated three participating vessels: The HMCS BRANDON (NCSM 710), the HMCS YELLOWKNIFE (NCSM 706), and the USCGC MELLON (WHEC 717). However, subsequent to the publication of the Notice of Enforcement, the Coast Guard was informed by the Canadian government that the HMCS EDMONTON (NCSM 703) will be participating in the Seattle Seafair Fleet Week instead of the HMCS YELLOWKNIFE (NCEM 706).

This notice corrects that error by publishing the name of the vessel, HMCS EDMONTON (NCSM 703), that is taking the place of the HMCS YELLOWKNIFE (NCSM 703) in the upcoming Seattle Seafair Fleet Week.

Dated: July 25, 2014.
Katia Cervoni,
Chief, Office of Administrative Law and Regulations, U.S. Coast Guard.

[FR Doc. 2014-17973 Filed 7-29-14; 8:45 am]

BILLING CODE 9110-04-P